DEPARTMENT OF TRANSPORTATION

Federal Aviation Administration

14 CFR Part 39

[Docket No. FAA-2025-1106; Project Identifier MCAI-2023-01052-R]

RIN 2120-AA64

Airworthiness Directives; Airbus Helicopters Deutschland GmbH

AGENCY: Federal Aviation Administration (FAA), DOT.

ACTION: Notice of proposed rulemaking (NPRM).

SUMMARY: The FAA proposes to adopt a new airworthiness directive (AD) for all Airbus Helicopters Deutschland GmbH Model MBB-BK 117 D-2 and MBB-BK 117 D-3 helicopters. This proposed AD was prompted by reports of airspeed and altitude indication errors. This proposed AD would require revising the existing rotorcraft flight manual supplement (RFMS) for the helicopter and replacing the air conditioning system (ACS) condenser outlet grids with ACS condenser outlet covers, and would prohibit installing ACS condenser outlet grids. The FAA is proposing this AD to address the unsafe condition on these products.

DATES: The FAA must receive comments on this NPRM by August 4, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-1106; or in person at Docket Operations between 9 a.m. and 5 p.m., Monday through Friday, except Federal holidays. The AD docket contains this NPRM, the mandatory continuing airworthiness information (MCAI), any comments received, and other information. The street address for Docket Operations is listed above.

Material Incorporated by Reference:

• For EASA material identified in this proposed AD, contact EASA, Konrad-Adenauer-Ufer 3, 50668 Cologne, Germany; phone: +49 221 8999 000; email: ADs@easa.europa.eu; website: easa.europa.eu. You may find this material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2025-1106.

FOR FURTHER INFORMATION CONTACT: Aryanna Sanchez, Aviation Safety Engineer, FAA, 1600 Stewart Avenue, Suite 410, Westbury, NY 11590; phone: (817) 222-4058; email: aryanna.t.sanchez@faa.gov.

SUPPLEMENTARY INFORMATION:

Comments Invited

The FAA invites you to send any written relevant data, views, or arguments about this proposal. Send your comments to an address listed under the ADDRESSES section. Include “Docket No. FAA-2025-1106; Project Identifier MCAI-2023-01052-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Aryanna Sanchez, Aviation Safety Engineer, FAA, 1600 Stewart Avenue, Suite 410, Westbury, NY 11590. Any commentary that the FAA receives which is not specifically designated as CBI will be placed in the public docket for this rulemaking.

Background

EASA, which is the Technical Agent for the Member States of the European Union, has issued EASA AD 2023-0175, dated October 5, 2023 (EASA AD 2023-0175) (also referred to as “the MCAI”), to correct an unsafe condition on Airbus Helicopters Deutschland GmbH Model MBB-BK 117 D-2, MBB-BK 117 D-2m, MBB-BK 117 D-3, and MBB-BK 117 D-3m helicopters. The MCAI states that there have been reports of airspeed and altitude indication errors. Subsequent investigation revealed that the ACS condenser outlets are in close proximity to the static ports, and air from the outlets affects the static ports during flight. The static ports and pitot tubes measure different pressures, which are then used to calculate airspeed, altitude, and vertical speed. Incorrect readings can then occur. This condition, if not corrected, could result in a significant increase in crew workload and reduced situational awareness. The FAA is proposing this AD to address the unsafe condition on these products.

You may examine the MCAI in the AD docket at regulations.gov under Docket No. FAA-2025-1106.

Material Incorporated by Reference Under 1 CFR Part 51

The FAA reviewed EASA AD 2023-0175, which specifies procedures for amending the applicable RFMS by incorporating new altitude corrections if the helicopter has ACS condenser outlet grids, and not covers, installed. EASA AD 2023-0175 also specifies procedures for replacing the ACS condenser outlet grid part number (P/N) D211M1821302 or P/N D211M1822302 with ACS condenser outlet cover P/N D211M1821402 or P/N D211M1822402 and prohibits installing ACS condenser outlet grids on any helicopter. This material is reasonably available because the interested parties have access to it through their normal course of business or by the means identified in the ADDRESSES section.

FAA's Determination

These products have been approved by the aviation authority of another country and are approved for operation in the United States. Pursuant to the FAA's bilateral agreement with this State of Design Authority, it has notified the FAA of the unsafe condition described in the MCAI referenced above. The FAA is issuing this NPRM after determining that the unsafe condition described previously is likely to exist or develop on other products of the same type design.

Proposed AD Requirements in This NPRM

This proposed AD would require accomplishing the actions specified in the material already described, except for any differences identified as exceptions in the regulatory text of this AD. See “Differences Between this Proposed AD and the MCAI” for a discussion of those differences.

This proposed AD would require revising the RFMS for the helicopter. This proposed action may be performed by the owner/operator (pilot) holding at least a private pilot certificate and compliance with the applicable paragraphs of this proposed AD must be entered into the helicopter maintenance records in accordance with 14 CFR 43.9(a) and 91.417(a)(2)(v). The pilot may perform this action because it only involves revising the existing RFMS by inserting pages, which is not considered a maintenance action.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2023-0175 by reference in the FAA final rule. This proposed AD would, therefore, require compliance with EASA AD 2023-0175 in its entirety through that incorporation, except for any differences identified as exceptions in the regulatory text of this proposed AD. Using common terms that are the same as the heading of a particular section in EASA AD 2023-0175 does not mean that operators need comply only with that section. For example, where the AD requirement refers to “all required actions and compliance times,” compliance with this AD requirement is not limited to the section titled “Required Action(s) and Compliance Time(s)” in EASA AD 2023-0175. Material referenced in EASA AD 2023-0175 for compliance will be available at regulations.gov under Docket No. FAA-2025-1106 after the FAA final rule is published.

Differences Between This Proposed AD and the MCAI

EASA AD 2023-0175 applies to Model MBB-BK117 D-2m and MBB-BK117 D-3m helicopters, whereas this AD would not because those models do not have an FAA type certificate.

EASA AD 2023-0175 requires operators to “inform all flight crews” of the revisions to the RFMS, and thereafter to “operate the helicopter accordingly.” However, this proposed AD would not require those actions as those actions are already required by FAA regulations. FAA regulations require operators furnish to pilots any changes to the RFM (for example, 14 CFR 135.21) and that pilots are familiar with the RFM (for example, 14 CFR 91.505). As with any other flight crew training requirement, training on the updated RFM content is tracked by the operators and recorded in each pilot's training record, which is available for the FAA to review. FAA regulations also require pilots to follow the procedures in the existing RFM including all updates. Section 91.9 requires that any person operating a civil aircraft must comply with the operating limitations specified in the RFM. Therefore, including a requirement in this proposed AD to operate the helicopter according to the revised RFM would be redundant and unnecessary.

EASA AD 2023-0175 does not have any flight restrictions, whereas this proposed AD would require a revision to the RFMS restricting helicopters to operation under visual flight rules (VFR) until the helicopter is modified with ACS condenser outlet covers.

EASA AD 2023-0175 specifies amending the applicable RFMS, whereas this proposed AD would specifically require amending the Limitations Section of the applicable RFMS.

Interim Action

The FAA considers that this proposed AD would be an interim action. The manufacturer is currently developing a modification that will address the unsafe condition identified in this AD. Once this modification is developed, approved, and available, the FAA might consider additional rulemaking.

Costs of Compliance

The FAA estimates that this AD, if adopted as proposed, would affect 71 helicopters of U.S. registry. Labor costs are estimated at $85 per hour. Based on these numbers, the FAA estimates the following costs to comply with this proposed AD.

Replacing the ACS condenser outlet grids would take 20 work-hours and parts would cost $970, for an estimated cost of $2,670 per helicopter and $189,570 for the U.S. fleet. Revising the existing RFM for the helicopter would take 1 work-hour for an estimated cost of $85 per helicopter and $6,035 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Airbus Helicopters Deutschland GmbH: Docket No. FAA-2025-1106; Project Identifier MCAI-2023-01052-R.

(a) Comments Due Date

The FAA must receive comments on this airworthiness directive (AD) by August 4, 2025.

(b) Affected ADs

None.

(c) Applicability

This AD applies to Airbus Helicopters Deutschland GmbH Model MBB-BK 117 D-2 and MBB-BK 117 D-3 helicopters, certificated in any category.

(d) Subject

Joint Aircraft System Component (JASC) Code 2100, Air Conditioning System.

(e) Unsafe Condition

This AD was prompted by reports of airspeed and altitude indication errors. The FAA is issuing this AD to address airspeed and altitude indication errors. The unsafe condition, if not addressed, could result in significant increase in crew workload and reduced situational awareness.

(f) Compliance

Comply with this AD within the compliance times specified, unless already done.

(g) Requirements

(1) Except as specified in paragraphs (h) and (i) of this AD: Comply with all required actions and compliance times specified in, and in accordance with, European Union Aviation Safety Agency AD 2023-0175, dated October 5, 2023 (EASA AD 2023-0175).

(2) The owner/operator (pilot) holding at least a private pilot certificate may revise the existing Rotorcraft Flight Manual for the helicopter and must enter compliance with this requirement into the helicopter maintenance records in accordance with 14 CFR 43.9(a) and 14 CFR 91.417(a)(2)(v). The record must be maintained as required by 14 CFR 91.417, 121.380, or 135.439.

(h) Exceptions to EASA AD 2023-0175

(1) Where EASA AD 2023-0175 refers to its effective date, this AD requires using the effective date of this AD.

(2) Where EASA AD 2023-0175 requires compliance in terms of flight hours, this AD requires using hours time-in-service.

(3) Where paragraph (1) of EASA AD 2023-0175 states “by incorporating the ACS RFMS altitude correction procedure, as defined in appendix 1 of this AD,” this AD requires replacing that text with “by incorporating the ACS RFMS altitude correction procedure, as defined in appendix 1 of this AD, into the Limitations section and by adding a visual flight rules (VFR) only restriction to the procedure”.

(4) Where paragraph (1) of EASA AD 2023-0175 specifies to inform all flight crews and, thereafter, operate the helicopter accordingly, this AD does not require those actions.

(5) Where paragraph (2) of EASA AD 2023-0175 states “which includes the same content as the ACS RFMS altitude correction procedure,” this AD requires replacing that text with “which includes information identical to the information in the ACS RFMS altitude correction procedure, as defined in appendix 1 of this AD”.

(6) Where the material referenced in EASA AD 2023-0175 recommends complying with its instructions again after replacing the left-hand or right-hand exhaust cowling assembly, this AD does not require that action.

(7) This AD does not adopt the Remarks section of EASA AD 2023-0175.

(i) No Reporting Requirement

Although the material referenced in EASA AD 2023-0175 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov.

(2) Before using any approved AMOC, notify your appropriate principal inspector, or lacking a principal inspector, the manager of the local flight standards district office/certificate holding district office.

(k) Additional Information

For more information about this AD, contact Aryanna Sanchez, Aviation Safety Engineer, FAA, 1600 Stewart Avenue, Suite 410, Westbury, NY 11590; phone (817) 222-4058; email: aryanna.t.sanchez@faa.gov.

(l) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2023-0175, dated October 5, 2023.

(ii) [Reserved]

(3) For EASA material identified in this AD, contact EASA, Konrad-Adenauer-Ufer 3, 50668 Cologne, Germany; phone: +49 221 8999 000; email: ADs@easa.europa.eu; website: easa.europa.eu. You may find this EASA material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on June 13, 2025.
Christopher R. Parker,
Acting Deputy Director, Compliance & Airworthiness Division, Aircraft Certification Service.

[FR Doc. 2025-11213 Filed 6-17-25; 8:45 am]

BILLING CODE 4910-13-P